DEPARTMENT OF HEALTH AND HUMAN SERVICES

[Document Identifier: OS-0990-0025]

Agency Information Collection Request; 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before November 13, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sherrette Funn, Sherrette.Funn@hhs.gov or (202) 795-7714. When submitting comments or requesting information, please include the document identifier 0990-0025-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Commissioned Corps of the U.S. Public Health Service Application.

Type of Collection: Revision.

OMB No. 0990-0025—Commissioned Corps Headquarters.

Abstract: The principal purpose of this revision is a result of the Coronavirus Aid, Relief, and Economic Security (CARES) Act that was signed into law on March 27, 202. The Public Health Service Act was amended to provide for a Ready Reserve corps in times of public health emergencies, in addition to national emergencies. Collecting the information is to permit HHS to determine eligibility for appointment of applicants into the Regular Corps and Ready Reserve Corps of the Commissioned Corps of the U.S. Public Health Service Corps (Corps). The Corps is one of the seven Uniformed Services of the United States (37 U.S.C. 101(3)), and appointments in the Corps are made pursuant to 42 U.S.C. 204 et seq. and 42 CFR 21.58.

Type of respondent: Candidates/Applicants to the Regular and Ready Reserve Corps of the Commissioned Corps of the U.S. Public Health Service.

Annualized Burden Hour Table
Type of respondent | Form name | Number of regular corps respondents | Number of reserve corps respondents | Number response per respondent | Average burden per responses (in hours) | Total burden hours
Interested Health Professionals | Prequalification Questionnaire | 6,000 | 1,000 | 1 | 10/60 | 1,167
Health Professionals | Form PHS-50 | 3,000 | 500 | 1 | 15/60 | 875
References (college professors/teachers) | Form PHS-1813 | 3,000 | 500 | 1 | 15/60 | 875
Health Professionals | Addendum: Commissioned Corps Personal Statement | 3,000 | 500 | 1 | 15/60 | 875
Total |  |  |  |  |  | 3,792

Dated: October 8, 2020.
Sherrette A Funn,
Office of the Secretary, Paperwork Reduction Act Reports Clearance Officer.

[FR Doc. 2020-22703 Filed 10-13-20; 8:45 am]

BILLING CODE 4150-49-P